DELAWARE RIVER BASIN COMMISSION

[Docket D-2017-009-2]

Adjudicatory Hearing and Additional Written Comment Period

AGENCY: Delaware River Basin Commission.

ACTION: Notice.

SUMMARY: The Delaware River Basin Commission will hold an adjudicatory hearing (a trial-like proceeding) commencing April 15, 2020 on Docket D-2017-009-2, issued by the Commission on June 12, 2019, to Delaware River Partners, LLC for the project known as Gibbstown Logistics Center Dock 2. The purpose of the hearing is to afford objectors an opportunity to show that the Commission's docket approval should be changed. The Commission will accept additional written comment on this matter during the pendency of the hearing, through April 24, 2020.

DATES: The hearing commencing on April 15, 2020 will run from 9 a.m. until no later than 4 p.m. and will continue on successive business days until complete. The start time on successive days will be determined by the Hearing Officer at the close of each day's proceedings and will be posted on the DRBC website, www.drbc.gov (see link under “Recent Postings”) each day after 4 p.m. Additional written comments on Docket D-2017-009-2 will be accepted through 5 p.m. on April 24, 2020.

ADDRESSES: The hearing will take place at the State of New Jersey Office of Administrative Law, Quakerbridge Plaza Building 9, Mercerville (Hamilton), NJ 08619, Hearing Room 1. Additional written comments on Docket D-2017-009-2 may be submitted through the Commission's web-based comment system, a link to which is provided at www.drbc.gov. Use of the web-based system ensures that all submissions are captured in a single location and their receipt is acknowledged. Exceptions to the use of this system are available based on need, by writing to the attention of the Commission Secretary, DRBC, P.O. Box 7360, 25 Cosey Road, West Trenton, NJ 08628-0360. For assistance, please contact Giselle Hernandez at giselle.hernandez@drbc.gov.

SUPPLEMENTARY INFORMATION: The Commission on June 6, 2019 held a duly noticed public hearing on a draft of Docket D-2017-009-2 for the Gibbstown Logistics Center Dock 2. The Commission accepted written comment on the draft docket through 5 p.m. on June 7, 2019. Pursuant to Section 3.8 of the Delaware River Basin Compact, Public Law 87-328, 75 Stat. 688, the Commission by unanimous vote at its regularly scheduled quarterly business meeting on June 12, 2019 approved the final docket, incorporating changes made in response to comments received on the draft. In accordance with Article 6 (Subpart F) of the Commission's Rules of Practice and Procedure, The Delaware Riverkeeper and The Delaware Riverkeeper Network (collectively, “DRN”) by letter dated July 11, 2019 requested an adjudicatory hearing on the docket approval, and during its business meeting of September 11, 2019, the Commission granted DRN's request. Copies of Docket D-2017-009-2 as approved, staff's memo responding to comments received on the draft docket, DRN's request for an administrative hearing on the approval, and Minutes of the Commission's meetings of June 12 and September 11, 2019 are available on the Commission's website at drbc.gov (see link under “Recent Postings”).

Hearing Procedure. The adjudicatory hearing, a trial-like proceeding, will be conducted pursuant to Article 6 (Subpart F) of the Rules of Practice and Procedure—Sections 2.6.1 through 2.6.10 (18 CFR 401.71—401.90). Participants are limited to those interested parties who have been identified pursuant to Section 2.6.4(a) (18 CFR 401.84(a)), consisting of docket holder Delaware River Partners, LLC; objector DRN; and members of the Commission staff.

To attend the Adjudicatory Hearing. Limited seating—an estimated 40 places—will be available for the general public on a first-come first-served basis. Doors open at 8 a.m. Members of the public will not be afforded an opportunity to speak during the hearing.

Accommodations for Special Needs. Individuals in need of an accommodation as provided for in the Americans with Disabilities Act who wish to attend the adjudicatory hearing should contact the Commission Secretary directly at 609-883-9500 ext. 203 or through the Telecommunications Relay Services (TRS) at 711, to discuss how we can accommodate your needs.

Updates. Because the daily start time and the duration of the adjudicatory hearing in its entirety cannot be pre-determined, between April 15, 2020 and the close of the hearing, the next day's start time will be posted after 4 p.m. on the DRBC website, www.drbc.gov (see link under “Recent Postings”).

Additional Information, Contacts. Additional public records relating to Docket D-2017-009-2 may be obtained through a request in accordance with Article 8 (Subpart H) of the Rules of Practice and Procedure. See https://www.state.nj.us/drbc/about/public/records-access.html for details, and/or contact Denise McHugh at 609-883-9500, ext. 240.

Dated: February 14, 2020.
Pamela M. Bush,
Commission Secretary and Assistant General Counsel.

[FR Doc. 2020-03516 Filed 2-28-20; 8:45 am]

BILLING CODE 6360-01-P